DEPARTMENT OF ENERGY

Federal Energy Regulatory Commission

[Docket No. PR04-8-000]

Arkansas Oklahoma Gas Corporation; Notice of Petition for Rate Approval

March 19, 2004.

Take notice that on February 13, 2004, Arkansas Oklahoma Gas Corporation (AOG), filed pursuant to the Commission's Order, issued June 13, 2001, in Docket No. PR01-8-000, a petition for approval to establish a new maximum transportation rate applicable to all of Applicant's existing and future transportation services provided under its Order No. 63 blanket certificate.

Any person desiring to participate in this rate proceeding must file a motion to intervene or protest with the Federal Energy Regulatory Commission, 888 First Street, NE., Washington, DC 20426, in accordance with sections 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the FERRIS link. Enter the docket number excluding the last three digits I the docket number field to access the document. For Assistant, call (202) 502-8222 or for TTY, (202) 502-8659. Comments, protests and interventions may be filed electronically via the Internet in lieu of paper. The Commission strongly encourages electronic filings. See, 18 CFR 385.2001(1)(iii) and the instructions on the Commission's Web site under the e-Filing link.

Comment Date: April 5, 2004.

Magalie R. Salas,
Secretary.

[FR Doc. E4-678 Filed 3-24-04; 8:45 am]

BILLING CODE 6717-01-P